DEPARTMENT OF THE INTERIOR

National Park Service

Notification of Minor Boundary Revision at Fort Laramie National Historic Site

AGENCY: National Park Service, Interior.

ACTION: Notification of Park Boundary Revision.

FOR FURTHER INFORMATION CONTACT: National Park Service, Glenna F. Vigil, Chief, Land Resources Program Center, Intermountain Region, P.O. Box 25287, Denver, Colorado 80225-0287, (303) 969-2610.

DATES: The effective date of this boundary revision is February 13, 2012.

SUPPLEMENTARY INFORMATION: Notice is hereby given that, under 16 U.S.C. 460l-9(c)(1), the boundary of Fort Laramie National Historic Site is modified to include an additional 33.75 acres of land consisting of two tracts. Tract 01-121 (12.51 acres) was acquired as an uneconomic remnant during the purchase of larger tracts within the Ft. Laramie National Historic Site boundary, and Tract 01-136 (21.24 acres) was acquired by donation from the Corn Creek Irrigation District. Both tracts are located in Goshen County, Wyoming. Tract 01-121 is immediately adjacent to the current southern boundary of the Site; and, Tract 01-136 is located immediately adjacent to the current southeastern boundary of the Site. The boundary revision is depicted on National Park Service, Intermountain Region, Fort Laramie National Historic Site Proposed Boundary Revision Map; Map Number 375/106,732A dated April 2011. The map is available for inspection at the following locations: National Park Service, Intermountain Region Land Resources Program Center, 12795 W. Alameda Parkway, Lakewood, CO 80225-0287; and, National Park Service, Department of the Interior, Washington, DC 20240.

16 U.S.C. 460l—9 (c)(1) provides that after notifying the House Committee on Natural Resources and the Senate Committee on Energy and Natural Resources, the Secretary of the Interior is authorized to make this boundary revision upon publication of notice in the Federal Register. The Committees have been notified of this boundary revision. Inclusion of these lands within the boundary will make a significant contribution to the purpose for which the Fort Laramie National Historic Site was established.

December 13, 2011.
John Wessels,
Regional Director, Intermountain Region.

[FR Doc. 2012-2869 Filed 2-10-12; 8:45 am]

BILLING CODE 4312-CW-M